DEPARTMENT OF COMMERCE

National Institute of Standards and Technology

Announcing a Meeting of the Information Security and Privacy Advisory Board [Formerly the Computer System Security and Privacy Advisory Board]

AGENCY: National Institute of Standards and Technology, Commerce.

ACTION: Notice of meeting.

SUMMARY: Pursuant to the Federal Advisory Committee Act, 5 U.S.C. App., notice is hereby given that the Information Security and Privacy Advisory Board (ISPAB) will meet Tuesday, December 14, 2004, from 8:30 a.m. until 5 p.m. and Wednesday, December 15, 2004, from 8:30 a.m. until 5 p.m. All sessions will be open to the public. The Advisory Board was established by the Computer Security Act of 1987 (Pub. L. 100-235) and amended by the Federal Information Security Management Act of 2002 (Pub. L. 107-347) to advise the Secretary of Commerce and the Director of NIST on security and privacy issues pertaining to Federal computer systems. Details regarding the Board's activities are available at http://csrc.nist.gov/ispab/.

DATES: The meeting will be held on December 14, 2004, from 8:30 a.m. until 5 p.m. and December 15, 2004, from 8:30 a.m. until 5 p.m.

ADDRESSES: The meeting will take place at the Bethesda Hyatt Regency Hotel, 7400 Wisconsin Avenue (One Bethesda Metro Center), Bethesda, MD 20814.

AGENDA

—Welcome and Overview

—ISPAB Work Plan Status Review

—Department of Homeland Security Privacy Initiatives Briefing

—US-VISIT Privacy Program Briefing

—Update on the National Information Assurance Partnership Program

—Introduction of New Director of NIST Information Technology Laboratory

—Professional Credentialing Strategy

—Agenda Development for March 2005 ISPAB Meeting

—Wrap-Up

Note that agenda items may change without notice because of possible unexpected schedule conflicts of presenters.

Public Participation: The Board agenda will include a period of time, not to exceed thirty minutes, for oral comments and questions from the public. Each speaker will be limited to five minutes. Members of the public who are interested in speaking are asked to contact the Board Secretariat at the telephone number indicated below. In addition, written statements are invited and may be submitted to the Board at any time. Written statements should be directed to the ISPAB Secretariat, Information Technology Laboratory, 100 Bureau Drive, Stop 8930, National Institute of Standards and Technology, Gaithersburg, MD 20899-8930. It would be appreciated if 35 copies of written material were submitted for distribution to the Board and attendees no later than December 8, 2005. Approximately 15 seats will be available for the public and media.

FOR FURTHER INFORMATION CONTACT: Ms. Joan Hash, Board Secretariat, Information Technology Laboratory, National Institute of Standards and Technology, 100 Bureau Drive, Stop 8930, Gaithersburg, MD 20899-8930, telephone: (301) 975-3357.

Dated: November 24, 2004.
Hratch G. Semerjian,
Acting Director.

[FR Doc. 04-26634 Filed 12-2-04; 8:45 am]

BILLING CODE 3510-CN-P